DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Wage Statement (WH-501 (English) and WH-501S (Spanish)). A copy of the proposed information collection request can be obtained by contacting the office listed below in the addresses section of this Notice.

DATES: Written comments must be submitted to the office listed in the addresses section below on or before May 6, 2003.

ADDRESSES: Ms. Hazel M. Bell, U.S. Department of Labor, 200 Constitution Ave., NW., Room S-3201, Washington, DC 20210, telephone (202) 693-0418, fax (202) 693-1451, E-mail hbell@fenix2.dol-esa.gov. Please use only one method of transmission for comments (mail, fax, or E-mail).

SUPPLEMENTARY INFORMATION:

I. Background

The Migrant and Seasonal Agricultural Worker Protection Act (MSPA) and it regulations 29 CFR part 500 requires that each Farm labor contractor, agricultural employer, and agricultural association that employs any migrant or seasonal worker, make, keep, and preserve itemized records for three years for each worker. These records include the basis on which earnings are paid, the number of piece work units earned, if applicable, the number of hours worked, the total pay period earnings, the specific sums withheld and the purpose of each sum withheld, and the net pay. It is also required that an itemized written statement of this information be provided to each worker each pay period. The WH-501 (English) and WH-501S (Spanish) are optional forms which an employer may use for this purpose. This information collection is currently approved for use through August 31, 2003.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order to carry out its responsibility to determine compliance with applicable provisions of the Migrant and Seasonal Agricultural Worker Protection Act (MSPA). While use of the forms is optional, disclosure and maintenance of the information is required by MSPA.

Type of Review: Extension.

Agency: Employment Standards Administration.

Title: Wage Statement.

OMB Number: 1215-0148.

Agency Number: WH-501 (English) and WH-501S (Spanish).

Affected Public: Farms; Business or other for-profit; Individuals or households.

Total Respondents: 1.4 million.

Total Responses: 34 million.

Time per Response: 1 minute.

Frequency: Recordkeeping; Third party disclosure, Reporting on occasion.

Estimated Total Burden Hours: 566,667.

Total Burden Cost (capital/startup): $0.

Total Burden Cost (operating/maintenance): $0.

Comments submitted in response to this notice will be summarized and/or included in the request for Office of Management and Budget approval of the information collection request; they will also become a matter of public record.

Dated: March 3, 2003.
Sue Blumenthal,
Acting Chief, Branch of Management Review and Internal Control, Division of Financial Management, Office of Management, Administration and Planning, Employment Standards Administration.

[FR Doc. 03-5410 Filed 3-6-03; 8:45 am]

BILLING CODE 4510-27-P